DEPARTMENT OF STATE

[Public Notice 3668]

Notice of Meetings; United States International Telecommunication Advisory Committee (ITAC) and Telecommunication Development Sector (ITAC-D)

The Department of State announces meetings of the U.S. International Telecommunication Advisory Committee. The purpose of the Committee is to advise the Department on policy and technical issues with respect to the International Telecommunication Union. Meetings will be held at the Department of State, 2201 “C” Street, NW, Washington, DC.

The ITAC will meet from 10 am to noon on June 5 and June 13, to continue preparations for meetings of the ITU Council. All meetings will be at the Department of State. The ITAC-D will meet from 10 am to noon on Friday, June 8 to prepare for the September meeting of ITU-D Study Groups 1 and 2.

Members of the general public may attend these meetings. Directions to meeting locations and actual room assignments may be determined by calling the Secretariat at 202-647-0965/2592. For meetings held at the Department of State: Entrance to the building is controlled; people intending to attend any of the ITAC meetings should send a E-mail to williamscd@state.gov no later than 48 hours before the meeting for preclearance. This e-mail should display the name of the meeting and date of meeting, your name, social security number, date of birth, and organizational affiliation. One of the following valid photo identifications will be required for admission: U.S. driver's license, passport, U. S. Government identification card. Enter the Department of State from the C Street Lobby; in view of escorting requirements, non-Government attendees should plan to arrive not less than 15 minutes before the meeting begins.

Attendees may join in the discussions, subject to the instructions of the Chair. Admission of members will be limited to seating available.

Dated: May 25, 2001.
Doreen McGirr,
Director, Telecommunication Development Sector, International Communication & Information Policy, Department of State.

[FR Doc. 01-13808 Filed 5-29-01; 2:16 pm]

BILLING CODE 4710-45-P